DEPARTMENT OF AGRICULTURE

Forest Service

Notice of Resource Advisory Committee Meeting

AGENCY: Modoc Resource Advisory Committee, Alturas, California, USDA Forest Service.

ACTION: Notice of meetings.

SUMMARY: Pursuant to the authorities in the Federal Advisory Committees Act (Pub. L. 92-463) and under the Secure Rural Schools and Community Self-Determination Act of 2000 (Pub. L. 106-393) the Modoc National Forest's Modoc Resource Advisory Committee will meet Saturday, January 12, 2002 and Saturday, February 9, 2002 in Alturas, California for business meetings. The meetings are open to the public.

SUPPLEMENTARY INFORMATION: The business meeting January 12 begins at 9:30 am, at the Modoc National Forest Office, Conference Room, 800 West 12th St., Alturas. Agenda topics will include approval of 11/17/01 minutes, reports from subcommittees are review and selection of projects that will improve the maintenance of existing infrastructure, implement stewardship objectives that enhance forest ecosystems, and restore and improve health and water quality. Opportunity for public discussion will be accepted following each proposal but limited to a set time. Time will also be set aside for public comments at the close of the meeting. The business meeting February 9, begins at 9:30 a.m, at the Modoc National Forest Office, Conference Room, 800 West 12th Street, Alturas. Agenda topics will include approval of the 12/1/01 minutes, reports from subcommittees and selection of projects on the Modoc National Forest that meet the intent of Pub. L. 106-393. Time will be set aside for public comments at the close of the meeting.

FOR FURTHER INFORMATION CONTACT: Dan Chisholm, Forest Supervisor and Designated Federal Officer, at (530) 233-8700; or Public Affairs Officer Nancy Gardner at (530) 233-8713.

Dan Chisholm,
Forest Supervisor.

[FR Doc. 01-31108 Filed 12-17-01; 8:45 am]

BILLING CODE 3410-11-M